DEPARTMENT OF HEALTH AND HUMAN SERVICES

Centers for Disease Control and Prevention

[Program Announcement 03029]

Intervention Research Grants To Promote the Health of People With Disabilities; Amendment

A notice announcing the availability of Fiscal Year (FY) 2003 funds for a grant program supporting intervention research to promote the health of people with disabilities was published in the Federal Register, March 10, 2003, Volume 68, Number 46, pages 11395-11399. The notice is amended as follows: Page 11395, Section D. Funding, delete paragraph two.

Dated: March 21, 2003.
Sandra R. Manning,
Director, Procurement and Grants Office, Centers for Disease Control and Prevention.

[FR Doc. 03-7316 Filed 3-26-03; 8:45 am]

BILLING CODE 4163-18-P